DEPARTMENT OF STATE

[Public Notice 5215]

Notice of Meeting; United States International Telecommunication Advisory Committee; Information Meeting on the World Summit on the Information Society

The Department of State announces a meeting of the U.S. International Telecommunication Advisory Committee (ITAC). The purpose of the Committee is to advise the Department on matters related to telecommunication and information policy matters in preparation for international meetings pertaining to telecommunication and information issues.

The ITAC will meet to discuss matters related to the recently concluded World Summit on the Information Society (WSIS). The meeting will take place on Thursday, December 15, 2005 from 10:30 a.m. to 12 p.m. in the auditorium of the Historic National Academy of Science Building. The National Academy of Sciences is located at 2100 C St. NW., Washington, DC.

Members of the public are welcome to participate and may join in the discussions, subject to the discretion of the Chair. Persons planning to attend this meeting should send the following data by fax to (202) 647-5957 or e-mail to jillsonad@state.gov not later than 24 hours before the meeting: (1) Name of the meeting, (2) your name, and (3) organizational affiliation. A valid photo ID must be presented to gain entrance to the National Academy of Sciences Building. Directions to the meeting location may be obtained by calling the ITAC Secretariat at (202) 647-5205.

Dated: November 17, 2005.
Anne Jillson,
Foreign Affairs Officer, International Communications and Information Policy, Department of State.

[FR Doc. E5-6617 Filed 11-25-05; 8:45 am]

BILLING CODE 4710-07-P